GOVERNMENT ACCOUNTABILITY OFFICE

Public Meeting of the Advisory Council on Government Auditing Standards

AGENCY: Government Accountability Office.

ACTION: Notice of Meeting (teleconference).

SUMMARY: This notice informs the public that the Advisory Council on Government Auditing Standards will hold a public meeting by teleconference on April 12, 2013. The public is invited to listen to the Council's discussion. Members of the public will be provided an opportunity to address the Council with a brief (five-minute) presentation in the afternoon. The Advisory Council's primary purpose is to provide input and recommendations to the Comptroller General for revisions to the Government Auditing Standards, to provide for timely resolution of auditing issues, and to maintain the relevancy of the standards.

DATES: The teleconference will take place on April 12, 2013, from 1 p.m. to 3 p.m. For how to participate, please see SUPPLEMENTARY INFORMATION, below.

SUPPLEMENTARY INFORMATION: This meeting will provide the Council members with an update on GAO activities since the issuance of the 2011 Revision of Government Auditing Standards and to obtain the Advisory Council's advice as GAO determines the scope and content of possible interpretative guidance on several subjects relating to the 2011 Revision. To participate, call toll free 1-866-763-4533. When prompted, enter the following passcode: 48755534.

Any interested person who plans to attend the meeting as an observer should contact Cecil Davis, Council Administrator, 202-512-9362. For further information or to obtain a copy of the Council meeting agenda, please contact Ms. Davis. [Pub. L. 67-13, 42 Stat. 20 (June 10, 1921)]

Dated: March 28, 2013.
James R. Dalkin,
Director, Financial Management and Assurance.

[FR Doc. 2013-07710 Filed 4-3-13; 8:45 am]

BILLING CODE 1610-02-M